DEPARTMENT OF DEFENSE

Office of the Secretary

[Docket ID: DoD-2015-OS-0142]

Proposed Collection; Comment Request

AGENCY: Defense Logistics Agency, DoD.

ACTION: Notice.

SUMMARY: In compliance with the Paperwork Reduction Act of 1995, the Defense Logistics Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 29, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Logistics Agency, ATTN: Joint Contingency and Expeditionary Services (JCXS) Program Management Office (PMO), 4800 Mark Center Drive, Alexandria, VA 22350; or call (571) 372-3593.

SUPPLEMENTARY INFORMATION: Title; Associated Form; and OMB Number: Joint Contingency Contracting System (JCCS); OMB 0704-XXXX.

Needs and Uses: The information collection requirement is necessary to evaluate vendors for possible approval or acceptance to do business with and have access to U.S. military installations around the world. JCCS is a module of the Joint Contingency and Expeditionary Services (JCXS). JCXS is the DoD's agile, responsive, and global provider of Joint expeditionary acquisition business solutions that fulfill mission-critical requirements while supporting interagency collaboration—to include, but not limited to, contracting, finance, spend analysis, contract close-out, staffing, strategic sourcing, and reporting.

As an integral component of JCXS, JCCS was designed to register foreign vendors for work with the U.S. Government. These vendors must provide certain information and identification documents, such as employee passports, in order to be vetted. If the requested information is not provided by vendors, proper verification of credentials and a security review cannot be properly completed. Vendor evaluation is essential for maintaining force protection.

Although there is no PRA requirement for the current foreign respondents, beginning January 1, 2016, a new mandate exists that will necessitate all vendors register in order to do business with the U.S. Military. This addition of U.S. vendors establishes a burden to members of the public under the PRA.

Affected Public: Business or other for profit; Not-for-profit institutions.

Annual Burden Hours: 500.

Number of Respondents: 1000.

Responses per Respondent: 1.

Average Burden per Response: 0.5 hours (30 minutes).

Frequency: On Occasion, Annually.

Respondents are businesses who are applying, on occasion, for authorization to be a vendor with the U.S. Military, including approval for the associated access, if appropriate, to bases worldwide. Based on changing mission requirements, the U.S. Government may also require vendors to be vetted annually for eligibility to bid on new contracts. The amount of vendors registering with JCCS is expected to increase when the new requirement for all vendors takes effect in January 2016.

Disclosure of PII and other needed information is voluntary to support the registration and vetting process. However, failure to provide the required information may result in a vendor being denied access to the JCCS business application, and subsequently prohibited from conducting business with the U.S. Military. The JCCS application is available through the Defense Logistics Agency (DLA) Web site.

Dated: December 23, 2015.
Aaron Siegel,
Alternate OSD Federal Register Liaison Officer, Department of Defense.

[FR Doc. 2015-32809 Filed 12-29-15; 8:45 am]

BILLING CODE 5001-06-P